DEPARTMENT OF HEALTH AND HUMAN SERVICES

National Institutes of Health

Submission for OMB Review; Comment Request; “Tobacco Use Supplement to the Current Population Survey in 2001-2002”

SUMMARY: Under the provisions of section 3507(a)(1)(D) of the Paperwork Reduction Act of 1995, the National Cancer Institute (NCI), the National Institutes of Health (NIH) has submitted to the Office of Management and Budget (OMB) a request for review and approval of the information collection listed below. This proposed information collection was previously published in the Federal Register on December 14, 2000, pages 78176-78177 and allowed 60 days for public comment. No public comments were received. The purpose of this notice is to allow an additional 30 days for public comment. The National Institutes of Health may not conduct or sponsor, and the respondent is not required to respond to, an information collection that has been extended, revised or implemented on or after October 1, 1995, unless it displays a currently valid OMB control number.

Proposed Collection

Title: Tobacco Use Supplement to the Current Population Survey in 2001-2002. Note: The previous title “American Stop Smoking Intervention Study for Cancer Prevention (ASSIST) Final Evaluation: Tobacco Use Supplement to the 1998-1999/2000 Current Population Survey” was changed to more clearly represent current and future surveillance activities and to reflect the fact that the ASSIST project has ended.

Type of information request: Revision, with change of OMB #0925-0368, Expiration 01/31/2003.

Need and Use of Information Collection: The 2001-2002 Tobacco Use Supplement to the Current Population Survey conducted by the Bureau of the Census will collect data from the civilian non-institutionalized population tobacco use and smoking prevalence, workplace smoking policies, medical and dental advice to stop smoking, and changes in smoking norms and attitudes. This survey will provide invaluable information to government agencies, other scientists and the general public necessary for tobacco control research, as well as measure progress toward tobacco control as part of the National Cancer Institute's Extraordinary Opportunities in Tobacco Research. This survey is part of a continuing series of surveys that were sponsored by NCI and fielded periodically over the 1990's by the Census Bureau as part of the American Stop Smoking Intervention Study for Cancer Prevention (ASSIST) project and made available for general public use. The Tobacco Use Supplements will be continuing over the next decade alternating between a standard or core tobacco use survey (such as the 2001-2002 survey) and a special topic survey focusing on emerging tobacco control issues. The survey will allow state specific estimates to be made. Data will be collected in June 2001, November 2001 and February 2002 from approximately 293,000 respondents. The National Cancer Institute is co-sponsoring this survey with the Centers for Disease Control and Prevention.

Frequency of Response: One-time study.

Affected Public: Individuals or households.

Type of Respondents: Persons 15 years of age or older.

The annual reporting burden is as follows:

Estimated Number of Respondents: 97,666;

Estimated Number of Responses per Respondent: 1;

Average Burden Hours Per Response: 0.1169; and

Estimated Total Annual Burden Hours Requested: 11,417.

The annualized cost to the respondents is estimated at: $114,173. There are no Capital Costs, Operating Costs, and/or Maintenance Costs to report.

Request for Comments

Written comments and/or suggestions from the public and affected agencies should address one or more of the following points: (1) Whether the proposed collection of information is necessary for the proper performance of the function of the agency, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to: Office of Management and Budget, Office of Regulatory Affairs, New Executive Office Building, Room 10235, Washington, DC 20503. Attention: Desk Officer for NIH. To request more information on the proposed project or to obtain a copy of the data collection plans and instruments, contact Anne Hartman, Health Statistician, National Cancer Institute, Executive Plaza North, Suite 4005, Bethesda, Maryland 20892-7344, or call non-toll free (301) 496-4970, or FAX your request, to (301) 435-3710, or E-mail your request, including your address, to ah42t@nih.gov or Anne_Hartman@nih.gov.

Comments Due Date: Comments regarding this information collection are best assured of having their full effect if received on or before April 26, 2001.

Dated: March 20, 2001.
Reesa Nichols,
NCI Project Clearance Liaison.

[FR Doc. 01-7483 Filed 3-26-01; 8:45 am]

BILLING CODE 4140-01-M